DEPARTMENT OF TRANSPORTATION

Office of the Secretary

Motor Vehicles; Alternative Fuel Vehicle (AFV) Report

AGENCY: Office of the Secretary, DOT.

ACTION: Notice of Availability—Fleet (AFV) Report.

SUMMARY: In accordance with the Energy Policy Act of 1992 (EPAct) (42 U.S.C. 13211-13219) as amended by the Energy Conservation Reauthorization Act of 1998 (Pub. L. 105-388), and E.O. 13149, “Greening the Government Through Federal Fleet and Transportation Efficiency,” the Department of Transportation's annual alternative fuel vehicle reports are available on the following Department of Transportation Web site: http://osam.ost.dot.gov.

FOR FURTHER INFORMATION CONTACT: Kurt T. Ettenger, Departmental Fleet Manager, Office of Security and Administrative Management, 400 7th Street SW., Washington, DC 20590; telephone (202) 366-2093.

Dated: January 15, 2003.
Richard Pemberton,
Associate Director, Office of Security and Administrative Management.

[FR Doc. 03-1481 Filed 1-22-03; 8:45 am]

BILLING CODE 4910-62-P